DEPARTMENT OF HEALTH AND HUMAN SERVICES

Health Care Financing Administration

[Document Identifiers: HCFA-R-267 (OMB #0938-0753)]

Intent of Clearance: Public Information Collection Meeting To Discuss Requirements To Be Submitted to the Office of Management and Budget (OMB)

In compliance with the requirement of section 3506(c)(2)(A) of the Paperwork Reduction Act of 1995, in the near future, the Health Care Financing Administration (HCFA), Department of Health and Human Services (DHHS), will be submitting to the Office of Management and Budget (OMB) a request for review of the proposed Appeals Data Collections System for Managed Care Organizations (M+COs)

In order to seek public input at this early juncture and before we seek approval for this information collection from OMB, HCFA will be holding a town hall meeting to discuss the goals of the proposed Appeals Data Collection System for M+COs, issues that may surround it, and the required data elements associated with it.

Interested persons are invited to participate in a public discussion about various aspects of this collection of information, including any of the following subjects: (1) The necessity and utility of the proposed information collection for the proper performance of the agency's functions; (2) the estimated burden; (3) ways to enhance the quality, utility, and clarity of the information to be collected; and (4) the use of automated collection techniques or other forms of information technology to minimize the information collection burden.

Dates: The meeting is scheduled for September 25, 2000 from 10 a.m. until 4 p.m., E.D.T.

Persons Interested in Attending or Requesting More Information Should Contact

Brandon Bush, (410) 786-0028 (Bbush@HCFA.GOV) Project Coordinator; John Burke , (410) 786-1325 (JBurke1@HCFA.GOV) PRA Reports Clearance Officer.

SUPPLEMENTARY INFORMATION:

Background

At present, we capture data on “plan level” appeal activities at the Medicare + Choice Organizations (M+COs), namely those managed care appeals not resolved at the M+CO level and which have automatically proceeded to a higher level of review by HCFA's independent contractor. We do not yet capture data on plans' internal appeal activity. Therefore, since our current data collection efforts represent only a portion of a M+CO's total appeal activity, it is insufficient to (1) assess plans' performance and provide feedback for improvement of their appeals process; and (2) review “enrollee-specific” appeal trends. (3) allow beneficiaries to make plan to plan comparisons based on the depth of sufficient data.

Through Operational Policy Letters (O.P.Ls) and Federal Register notices as well as industry association and beneficiary group meetings, we have made clear our intent to implement a data collection system to which M+COs will be required to periodically submit their appeal activity. Prior to finalizing the design of the data collection system, we are interested in validating our requirements of M+COs through a public process involving those who will use the information (for example, beneficiaries, M+COs, researchers, other purchasers, the public, and us). This public venue will afford us the opportunity to educate the users about our efforts to assist beneficiaries in making informed decisions when choosing plans. It will also serve to educate participants about the breadth of data that can be collected , and to receive input on data to be collected.

Agenda

The meeting will begin at 10 a.m. with an introduction to the system. We will give an overview to the participants of the proposed data elements to be considered. Informational booklets and writing materials will be provided at the meeting.

After the introduction and initial discussion, participants will be able to break up into four groups, which will be led by facilitators and employees of our staff to review the elements and discus concerns. The information gathered in these sessions will then be shared and discussed with the group as a whole. Afterwards, the participants will again break up into four separate groups for one last session, which will be shared and discussed with the entire group.

At the conclusion of the meeting we will provide a summary of the meeting, discussions and recommendations for data elements.

Dated: September 8, 2000.
John P. Burke III,
HCFA Reports Clearance Officer, Office of Information Services, Information Technology Investment Management Group, Division of HCFA Enterprise Standards, Health Care Financing Administration.

[FR Doc. 00-23495 Filed 9-8-00; 12:16 pm]

BILLING CODE 4120-03-P